DEPARTMENT OF HEALTH AND HUMAN SERVICES

Administration for Children and Families

Proposed Information Collection Activity; Trafficking Victim Assistance Program Data (OMB #0970-0467)

AGENCY: Office on Trafficking in Persons, Administration for Children and Families, Department of Health and Human Services.

ACTION: Request for public comments.

SUMMARY: The Office on Trafficking in Persons (OTIP), Administration for Children and Families (ACF), U.S. Department of Health and Human Services (HHS), is requesting renewal with revisions of an approved information collection: Trafficking Victim Assistance Program Data (Office of Management and Budget (OMB) #0970-0467).

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Trafficking Victims Protection Act of 2000 (TVPA), as amended, authorizes the Secretary of HHS to expand benefits and services to foreign nationals in the United States who are victims of severe forms of trafficking in persons. OTIP funds time-limited comprehensive case management services to foreign national adults confirmed and potential victims of a severe form of human trafficking, as defined by the TVPA of 2000, as amended, who are seeking or have received HHS certification. TVAP establishes local regional presence to coordinate project activities and direct services. Case management services must be provided to qualified persons directly by full-time case managers that are staffed by the prime recipient and may also be provided through a network of per capita service providers, which provide direct services and community referrals.

OTIP proposes to continue to collect information to measure grant project performance, provide technical assistance to grant recipients, assess program outcomes, inform program evaluation, respond to congressional inquiries and mandated reports, and inform policy and program development that is responsive to the needs of victims.

The information collection captures information on participant demographics (e.g., age, gender identity, race/ethnicity, country of origin), type of trafficking experienced (sex, labor, or both), types of services and benefits provided, along with aggregate information on the amount of money spent on each type of service provided, outreach activities conducted, sub recipients enrolled, and the types of trainings provided to relevant audiences. Minor updates have been made to performance indicators under this collection in consultation with existing grant recipients and stakeholders, to reduce respondent burden, strengthen client privacy and confidentiality, and bring the collection into alignment with program requirements under the revised TVAP. Specifically, to reduce burden and strengthen client privacy and confidentiality, the following TVAP client-level indicators have been removed: Type of Intake, Date of Birth, Disability Status, Services Requested at Intake, Benefits Requested at Intake, Trafficker Relationship to Victim. To bring the collection into alignment with the revised TVAP requirements, outreach-specific indicators have been added, specifically: Number of Outreach Activities Conducted, Date of Outreach Activity, Outreach Settings, Target Population(s), Number of Victims Identified, Screening Tool(s) Used.

Respondents: Trafficking Victim Assistance Program Grant Recipients and Clients of those programs, specifically the: Trafficking Victim Assistance Program (HHS-2022-ACF-IOAS-OTIP-ZV-0150), Aspire: Child Trafficking Victim Assistance Demonstration Program (HHS-2022-ACF-IOAS-OTIP-TV-0099), Victims of Human Trafficking Services and Outreach Program-Pacific Region Demonstration Program (VHT-SO Pacific) (HHS-2022-ACF-IOAS-OTIP-ZV-0038) and the Lighthouse: Services, Outreach, and Awareness for Labor Trafficking (Lighthouse) Demonstration Program (HHS-2022-ACF-IOAS-OTIP-ZV-0059).

Annual Burden Estimates
Instrument | Total Number of respondents | Total number of responses per respondent | Average burden hours per response | Total burden hours | Annual burden hours
Client Characteristics and Program Entry | 6,600 | 1 | 0.75 | 4,950 | 1,650
Client Case Closure | 6,600 | 1 | 0.167 | 1,102.2 | 367.4
Barriers to Service Delivery and Monitoring | 386 | 4 | 0.167 | 257.85 | 85.95
Client Service Use and Delivery | 6,600 | 1 | 0.25 | 1,650 | 550
Victim Outreach | 386 | 4 | 0.3 | 463.2 | 154.4
Training | 386 | 4 | 0.5 | 772 | 257.3
Subrecipient Enrollment | 193 | 2 | 0.167 | 64.5 | 21.5
TVAP Spending | 193 | 1 | 0.5 | 96.5 | 32.2

Estimated Total Annual Burden Hours: 3,118.75.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 22 U.S.C. 7105)

Mary B. Jones,
ACF/OPRE Certifying Officer.

[FR Doc. 2022-16065 Filed 7-26-22; 8:45 am]

BILLING CODE 4184-47-P